DEPARTMENT OF JUSTICE

Office of Justice Programs

[OJP (NIJ) Docket No. 1536]

NIJ Certification Programs Workshop

AGENCY: National Institute of Justice.

ACTION: Notice of Meeting of the NIJ Certification Programs Workshop.

SUMMARY: The National Institute of Justice (NIJ) is hosting a Certification Programs Workshop to introduce NIJ standards for law enforcement, corrections, and public safety equipment to organizations interested in testing, accreditation, and certification of such equipment to NIJ standards. The specific standards to be discussed address the following equipment:

• Bomb Suits.

• CBRN Protective Ensembles.

• Holsters.

• Metal Detectors.

• Offender Tracking Systems.

• Restraints.

• Vehicular Digital Multimedia Evidence Recording Systems.

Manufacturers of these types of equipment and certification bodies are invited to participate in this workshop. All participants are strongly encouraged to come prepared to ask questions and to voice suggestions and concerns.

The workshop will be held on Wednesday, December 8, 2010 from 8 a.m. to 5 p.m. at the Hotel Monaco, 700 F Street, NW., Washington, DC 20004. The meeting room is the Paris Ballroom. Space is limited at this workshop, and as a result, only 70 participants will be allowed to register. We request that each participating organization limit their representatives to no more than two. Exceptions to this limit may occur, should space allow. Participants planning to attend are responsible for their own travel arrangements.

Please visit the Web site below for additional information and to submit your registration request: https://www.seeuthere.com/event/m1312d11-4OFJ4NPANEZX1.

FOR FURTHER INFORMATION CONTACT: Casandra Robinson, by telephone at 202-305-2596 [Note: this is not a toll-free telephone number], or by e-mail at casandra.robinson@usdoj.gov.

Dated: November 17, 2010.
John H. Laub,
Director, National Institute of Justice.

[FR Doc. 2010-29464 Filed 11-22-10; 8:45 am]

BILLING CODE 4410-18-P